DEPARTMENT OF THE INTERIOR

Bureau of Indian Affairs

Final Determination Against Federal Acknowledgment of the Steilacoom Tribe of Indians

AGENCY: Bureau of Indian Affairs, Interior.

ACTION: Notice of Final Determination.

SUMMARY: Pursuant to 25 CFR 83.10(l)(2), notice is hereby given that the Department of the Interior (Department) declines to acknowledge the group known as the Steilacoom Tribe of Indians (STI) of 1515 Lafayette Street, P.O. Box 88419, Steilacoom, Washington 98388, c/o Mr. Danny Marshall, as an Indian tribe within the meaning of Federal law. This notice is based on a determination that the petitioner does not satisfy four of the seven mandatory criteria for acknowledgment, specifically §§ 83.7(a), 83.7(b), 83.7(c), and 83.7(e), as defined in 25 CFR part 83. Consequently, the STI does not meet the requirements for a government-to-government relationship with the United States.

DATES: This determination is final and will become effective on June 17, 2008, pursuant to § 83.10(l)(4), unless a request for reconsideration is filed pursuant to § 83.11.

ADDRESSES: Requests for a copy of the Summary Evaluation under the Criteria should be addressed to the Office of the Assistant Secretary—Indian Affairs, Attention: Office of Federal Acknowledgment, 1951 Constitution Avenue, NW., MS: 34B-SIB, Washington, DC 20240.

FOR FURTHER INFORMATION CONTACT: R. Lee Fleming, Director, Office of Federal Acknowledgment, (202) 513-7650.

SUPPLEMENTARY INFORMATION: On January 14, 2000, the Department issued a proposed finding (PF) that the STI was not an Indian tribe within the meaning of Federal law because the STI did not meet four of the seven mandatory criteria for Federal acknowledgment as an Indian tribe. The Department published a notice of the PF in the Federal Register on February 7, 2000 (65 FR 5880). The Federal Register notice initiated a 180-day comment period during which any individual or organization wishing to comment on the proposed finding could submit factual or legal arguments or evidence to support or rebut the PF.

The Department extended the comment period on several occasions. On March 27, 2007, the Department sent a letter to the STI outlining a plan to bring the regulatory comment and response periods to a close. The Department reopened and extended the comment period for 90 days to allow the STI and other parties to file comments. The Department also noted that this comment period could be extended further if the petitioner filed a detailed description of a work plan, a description of the work it had already completed, and established good cause for any further extension. To receive consideration for another extension of the comment period, the STI had to mail its request by June 14, 2007; otherwise, the comment period would close on July 6, 2007.

On June 25, 2007, the Department received a letter from the STI requesting an extension of the comment period by an additional 180 to 300 days. The letter's June 20, 2007, postmark was six days later than the June 14, 2007, deadline, and the petitioner's letter contained neither a work plan nor a description of work completed. The Department declined to extend the comment period again. The final comment period closed without the Department having received any additional comments. After the comment period closed, the regulatory 60-day response period began. The STI submitted no response materials during this period, which ended on September 4, 2007.

On November 2, 2007, the Department sent a consultation letter to the STI and several interested and third parties informing them that in mid-November the Department planned to begin evaluating the evidence for the FD on the STI petition. None of the parties raised an objection or responded in any other way to the Department's intention to begin preparation of the FD. However, due to workload considerations, the Department was not able to begin work in November. On January 7, 2008, the Department sent a letter to the STI and interested parties stating that it would begin the evaluation for the FD on January 15, 2008, and complete it by March 15, 2008.

During the comment period and the extended comment periods the STI commented only on the PF's analysis for 83.7(b) for the period from after the 1950s. Overall, given the petition's significant deficiencies in meeting criteria 83.7(a), (b), (c), and (e), the STI's comments were limited and did not substantively address the PF. Two neighboring federally recognized Indian tribes—the Puyallup Tribe of the Puyallup Reservation and the Nisqually Indian Tribe of the Nisqually Reservation—submitted third-party comments opposing acknowledgment of the STI. None of the material submitted changed the conclusions of the PF.

The STI claims to descend as a group from the historical Steilacoom Indian tribe that occupied the territory north of the Nisqually River up to Point Defiance in the western part of the state of Washington. The Hudson's Bay Company founded Fort Nisqually in the 1830s, and the STI claims that its Steilacoom ancestors worked at the fort for over two decades. The STI claims its ancestors signed the Medicine Creek Treaty (10 Stat. 1132) in 1854 and that its ancestors resided briefly on the reservations created by the treaty. The STI further contends that some of these Indians left the reservations and settled in “community pockets” in their traditional homelands. These Indians, the STI claims, are the “ancestors of the modern-day Steilacoom tribe” who have formed “an unbroken line of leadership and a continuous existence of community pockets within their traditional territory.”

The PF found that over 90 percent of the 612 STI members documented that they are Indian descendants, but only three of them documented descent from persons described in 19th and early 20th century documents as Steilacoom Indians. The PF found that STI members have Indian ancestry from other sources. One source of Indian ancestry is marriages between Indian women from various Indian tribes in the Pacific Northwest and employees of the Hudson's Bay Company. Just under two-thirds of the members descend from Indian women who were not Steilacoom and who, between 1839 and 1870, married employees of the Hudson's Bay Company who had come to the Pacific Northwest. The descendants of these marriages could not be classified as a métis, or mixed-blood, group descended from the historical Steilacoom band because the Indian wives came from a wide variety of tribal origins, including the Nisqually, Puyallup, Cowlitz, S'Klallam, Chimacum, Quinault, Duwamish, Skokomish, Yakima, and Snohomish Indian tribes. Furthermore, most of these women, after marrying, resided with their non-Indian husbands in non-Indian neighborhoods. A second source of Indian ancestry is descent from Canadian Indian tribes through Red River métis families from Manitoba, Canada, who settled in Washington and Oregon between 1844 and 1855. The petition claimed that these immigrants were adopted, sometimes by intermarriage, into a continuously existing Steilacoom community during the second half of the 19th century. However, the evidence in the record shows that the Red River immigrants married into families of the non-Steilacoom Indians or married the Hudson's Bay Company people described above, and the evidence does not show social relationships connecting the STI's ancestral family lines with one another.

The evidence in the record did not demonstrate that the STI maintained a community from historical times to the present, or that there was a group that maintained political influence or authority over its members. Even after the STI formally organized in 1974, there was not significant social interaction extending beyond individual family lines to members of the broader group, and STI political activities did not show a bilateral relationship between the leadership and the members.

Criterion 83.7(a) requires that external observers identify the petitioner as an American Indian entity on a substantially continuous basis since 1900. The PF found that for the period from 1900 to 1973, no external observers identified either the STI petitioner or a group of the petitioner's ancestors as an American Indian entity on a substantially continuous basis. The PF found sufficient evidence that external observers identified the STI as an American Indian entity only since 1974. Therefore, the PF concluded that the STI did not meet criterion 83.7(a).

The Department received no comments from the STI on the PF's conclusions that pertain to criterion 83.7(a). The Nisqually and Puyallup Indian tribes submitted comments regarding criterion 83.7(a). Their assertion that “[n]o other entity was proven to have existed” was not a conclusion that the PF reached under criterion 83.7(a). Criterion 83.7(a) only evaluates whether external observers had identified the petitioner as an American Indian entity on a substantially continuous basis since 1900, not whether any other entity was proven to have existed. None of the comments submitted during the comment period supplied new evidence that an external observer identified the petitioner or an antecedent group before 1974 as an American Indian entity.

The FD concludes, as the PF did, that external observers identified the petitioner as an Indian entity only after 1974. Because available evidence is not sufficient to demonstrate substantially continuous identification of the petitioner as an American Indian entity from 1900 to the present, the petitioner does not satisfy criterion 83.7(a).

Criterion 83.7(b) requires that a predominant portion of the petitioning group comprises a distinct community and has existed as a community from historical times until the present. The PF concluded that petitioner did not satisfy criterion 83.7(b) at any point in time, remarking that the “current STI membership did not, historically, constitute either a single tribe or group whose history could be traced through time and place or an amalgamated tribe or group whose history could be traced through time and place.”

The STI commented on the PF's conclusions directed to criterion 83.7(b) with regard to only one issue—the claimed persistence of a named, collective Indian identity over a 50-year period as described in 83.7(b)(1)(viii). The STI requested that the Department revisit its evaluation of the STI under 83.7(b)(1)(viii) from 1951 to the present. The Department revisited this issue, and noted that the STI based this request on a misunderstanding of criterion 83.7(b). The Department clarified this point of misunderstanding to the STI on several occasions prior to beginning its analysis for the FD, but the STI did not respond to this clarification and did not submit any additional evidence or explanation that would have helped satisfy criterion 83.7(b) from 1951 to the present—or during any other point in time.

The comments from the Puyallup and Nisqually Indian tribes support the PF's conclusion that the petitioner did not satisfy criterion 83.7(b).

Following additional review of the evidence under 83.7(b)(1)(viii), this FD confirms the conclusion of the PF that the existence of a formal organization is not itself sufficient to show collective group identity under 83.7(b)(1)(viii). The record provides substantial evidence that the STI does not meet criterion 83.7(b) and does not provide sufficient evidence that it does. Therefore, the FD concludes that STI does not meet criterion 83.7(b).

Criterion 83.7(c) requires that the petitioner has maintained political influence or authority over its members as an autonomous entity from historical times until the present. The PF concluded that evidence that could satisfy this criterion was either altogether absent or too limited in nature. Furthermore, some of the limited evidence of political leadership demonstrated that individuals exercised leadership only over a small number of members, not over significant portions of the group, as required by the regulations. Even after the STI incorporated in 1974, its functions and activities were not of a type to show a bilateral political relationship between the leadership and the members. The PF concluded that at no time from first sustained contact to the present did the evidence in the record show that the petitioner had maintained political influence or authority over its members as an autonomous entity. Therefore, it did not satisfy criterion 83.7(c).

The Department received no comments from the STI on the PF's conclusions that pertain to criterion 83.7(c). The comments from the Nisqually and Puyallup Indian tribes supported the PF's conclusions regarding criterion 83.7(c), stating that “the lack of a 19th century organization, and the limited claims purposes of the 20th century group fail to meet this standard.”

The record provides substantial evidence that the STI does not meet criterion 83.7(c) and does not provide sufficient evidence that it does. Therefore, the FD concludes that the STI does not meet criterion 83.7(c).

Criterion 83.7(d) requires that the petitioning group submit a copy of the group's present governing document that includes its membership criteria. The PF found that the STI satisfied criterion 83.7(d). The Department received no comments on the PF's conclusions under criterion 83.7(d). Therefore, based on the available evidence, the FD concludes, as the PF did, that the petitioner meets criterion 83.7(d).

Criterion 83.7(e) requires that the petitioner's membership consist of individuals who descend from a historical Indian tribe or from historical Indian tribes that combined and functioned as a single autonomous political entity. The PF concluded that the STI did not document that its membership consists of individuals who descend from a historical Indian tribe or from historical Indian tribes which combined and functioned as a single autonomous political entity. Over 90 percent of the 612 STI members documented that they are Indian descendants, but only three of them document descent from persons described in 19th and early 20th century documents as Steilacoom Indians. Most of the STI members descend from other Indians in the Pacific Northwest or from métis people from the Red River Valley in Manitoba, Canada.

The Department received no comments from the STI on the PF's conclusions directed to criterion 83.7(e). The Nisqually and Puyallup Indian tribes stated that the “petitioner has completely failed to establish that its members descend from the historical Steilacoom tribe,” which supports the PF's conclusion. The Nisqually and Puyallup Indian tribes further stated that the “only legitimate successors to the historical Steilacoom Tribe are the present-day Puyallup and Nisqually Tribes.” This FD does not present any conclusions concerning successorship in interest to a particular treaty or other rights, nor any conclusions regarding any treaty rights belonging to the federally recognized Puyallup and Nisqually Indian tribes.

Based on the available record, the FD affirms the PF's conclusions that only 3 of the petitioner's 612 members (0.5 percent) on its 1995 membership list have been documented as descendants of persons who were described in 19th and early 20th century documents as Steilacoom Indians. The record provides substantial evidence that the STI does not meet criterion 83.7(e) and does not provide sufficient evidence that it does. Therefore, the FD concludes that the STI does not meet criterion 83.7(e).

Criterion 83.7(f) requires that the membership of the petitioning group be composed principally of persons who are not members of any acknowledged North American Indian tribe. The PF concluded that the STI met criterion 83.7(f). The Department received no comments, from the petitioner or any other party, on the PF's conclusions under criterion 83.7(f). During its preparation of the FD, the Department compared the STI membership list with rolls of federally recognized Indian tribes under the jurisdiction of the Bureau of Indian Affairs (BIA) Northwest Region. They are, based on geographical proximity and the PF's genealogical findings, the Indian tribes most likely to include STI members. The review showed that the STI is composed principally of persons who are not members of any acknowledged North American Indian tribe. Therefore, the FD affirms the PF and concludes that the STI meets the requirements of criterion 83.7(f).

Criterion 83.7(g) requires that neither the petitioner nor its members be the subject of congressional legislation that has expressly terminated or forbidden the Federal relationship. The Department received no comments on the PF's conclusions under criterion 83.7(g). The available documentation for the PF and the FD provided no evidence that the STI was the subject of congressional legislation to terminate or prohibit a Federal relationship as an Indian tribe. Therefore, the petitioner meets the requirements of criterion 83.7(g).

A report summarizing the evidence, reasoning, and analyses that are the bases for the FD will be provided to the STI and interested parties, and is available to other parties upon written request.

After the publication of notice of the FD, the petitioner or any interested party may file a request for reconsideration with the Interior Board of Indian Appeals (IBIA) under the procedures set forth in section 83.11 of the regulations. The IBIA must receive this request no later than the date listed in the DATES section of this notice. The FD will become effective as provided in the regulations 90 days from the Federal Register publication, as listed in the DATES section of this notice, unless a request for reconsideration is received within that time.

Dated: March 12, 2008.
Carl J. Artman,
Assistant Secretary, Indian Affairs.

[FR Doc. E8-5551 Filed 3-18-08; 8:45 am]

BILLING CODE 4310-G1-P